DEPARTMENT OF TRANSPORTATION

Federal Aviation Administration

Eighty-Second Meeting: RTCA Special Committee 147 (SC 147) Minimum Operational Performance Standards for Aircraft Collision Avoidance Systems

AGENCY: Federal Aviation Administration (FAA), U.S. Department of Transportation (DOT).

ACTION: Eight-Second Meeting Notice of RTCA Special Committee 147.

SUMMARY: The FAA is issuing this notice to advise the public of the eight-second meeting of the RTCA Special Committee 147.

DATES: The meeting will be held September 22nd-24th from 9:00 a.m.-5:00 p.m.

ADDRESSES: The meeting will be held at EUROCONTROL, Rue de la Fusee 96, Brussels, Belgium, Tel: (202) 330-0654.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of the RTCA Special Committee 147. The agenda will include the following:

Tuesday, September 22, 2015

1. Threat Resolution Working Group (Neptune conference room)

2. Surveillance and Tracking Working Group (Jupiter conference room)

Wednesday, September 23, 2015

1. Joint Working Group Session (Pollux conference room)

Thursday, September 24, 2015

1. Opening Plenary Session (Jupiter and Neptune conference rooms)

a. Chairmen's Opening Remarks/Introductions

b. Approval of Minutes from 81st meeting of SC-147

c. Approval of Agenda

2. Report from WG-75

3. SESAR Updates

a. SESAR Tasks, present and future related to ACAS X

b. European Operational Acceptability Criteria

4. Software Development/Certification

a. Software Development Plan

b. EASA Rulemaking Process

5. Impact of TAs against ADS-B Only Targets on Requirements

6. Lunch

7. Working Group Reports

a. Surveillance/Tracking WG

b. Threat Resolution WG

i. Safety Sub-group

ii. Xo Sub-group

c. Coordination Subgroup

8. Document Approval: Change document to DO-300A/DO-300/ED-221

a. FRAC/Consultation comment resolution review

b. Approval Consideration

9. Mitigations for Transponder Failures/Or Setting into Standby

10. Review of ACAS Key Coordination Concept

11. Additional business

12. Closing Session

a. Next Meeting Location

b. Action Item review

c. Close Meeting

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 19, 2015.
Latasha Robinson,
Management & Program Analyst, Next Generation, Enterprise Support Services Division, Federal Aviation Administration.

[FR Doc. 2015-21182 Filed 8-25-15; 8:45 am]

BILLING CODE 4910-13-P